DEPARTMENT OF HEALTH AND HUMAN SERVICES

National Institutes of Health

National Institute of Neurological Disorders and Stroke; Amended Notice of Meeting

Notice is hereby given of a change in the meeting of the National Institute of Neurological Disorders and Stroke Special Emphasis Panel, Early Phase Clinical Trials in Neurology, July 10, 2024, 02:00 p.m. to July 10, 2024, 05:00 p.m., National Institutes of Health, Neuroscience Center, 6001 Executive Boulevard, Rockville, MD 20852, which was published in the Federal Register on June 13, 2024, FR Doc. 2024-13021, 89 FR 50347.

This notice is being amended to change the date of this one-day meeting from July 10, 2024, to July 30, 2024. The meeting time remains the same. The meeting is closed to the public.

Dated: July 5, 2024.
Lauren A. Fleck,
Program Analyst, Office of Federal Advisory Committee Policy.

[FR Doc. 2024-15188 Filed 7-10-24; 8:45 am]

BILLING CODE 4140-01-P